DEPARTMENT OF THE TREASURY

Submission for OMB Review; Comment Request

July 23, 2010.

The Department of Treasury will submit the following public information collection requirement to OMB for review and clearance under the Paperwork Reduction Act of 1995, Public Law 104-13 on or after the publication date of this notice. A copy of the submission may be obtained by calling the Treasury Departmental Office Clearance Officer listed. Comments regarding this information collection should be addressed to the OMB reviewer listed and to the Treasury PRA Clearance Officer, Department of the Treasury, 1750 Pennsylvania Avenue, NW., Suite 11010, Washington, DC 20220.

Dates: Written comments should be received on or before August 27, 2010 to be assured of consideration.

Community Development Financial Institutions (CDFI) Fund

OMB Number: 1559-0027.

Type of Review: Revision of a currently approved information collection.

Title: CDFI Program and NMTC Program Annual Report including CIIS.

Description: The mission is to expand the capacity of financial institutions to provide credit, capital and financial services to underserved populations and communities in the United States. The CDFI Fund's strategic goal is to improve the economic conditions of underserved communities by providing capital and technical assistance to CDFIs, capital to insured depository institutions, and NMTC allocations to Community Development Entities (CDEs), which provide credit, capital, financial services, and development services to these markets. The CDFI Fund certifies entities as CDFIs and/or CDEs.

Estimated Total Burden Hours: 38,073 hours.

CDFI Fund Clearance Officer: Ashanti McCallum, Community Development Financial Institutions Fund, Department of the Treasury, 601 13th Street, NW., Suite 200 South, Washington, DC 20005; (202) 622-9018.

OMB Reviewer: Shagufta Ahmed, Office of Management and Budget, New Executive Office Building, Room 10235, Washington, DC 20503; (202) 395-7873.

Dawn D. Wolfgang,
Treasury PRA Clearance Officer.

[FR Doc. 2010-18517 Filed 7-27-10; 8:45 am]

BILLING CODE 4810-70-P